ENVIRONMENTAL PROTECTION AGENCY

40 CFR Part 52

[EPA-R10-OAR-2022-0625; FRL-10023-01-R10]

Air Plan Approval; Alaska; Updates to Materials Incorporated by Reference

AGENCY: Environmental Protection Agency (EPA).

ACTION: Final rule; administrative change.

SUMMARY: The Environmental Protection Agency (EPA) is updating the materials that are incorporated by reference into the Alaska State Implementation Plan (SIP). The regulations affected by this format change have all been previously submitted by Alaska and approved by the EPA. In this action, the EPA is also notifying the public of corrections to typographical errors, and minor formatting changes to the incorporation by reference tables. This update affects the SIP materials that are available for public inspection at the National Archives and Records Administration and the EPA Regional Office.

DATES: This action is effective December 12, 2022.

ADDRESSES: SIP materials which are incorporated by reference into the Code of Federal Regulations (CFR) at 40 CFR part 52 are available for inspection at the following locations: online at www.regulations.gov in the docket for this action, by appointment at the EPA Region 10, 1200 Sixth Avenue, Suite 155, Seattle, WA 98101, and by appointment at the National Archives and Records Administration (NARA). For information on the availability of this material at the EPA Regional Office, please contact the person in the FOR FURTHER INFORMATION CONTACT section of this document. For information on the availability of this material at NARA, email fr.inspection@nara.gov, or go to: www.archives.gov/federal-register/cfr/ibr-locations.html.

FOR FURTHER INFORMATION CONTACT: Kristin Hall, EPA Region 10, 1200 Sixth Avenue, Suite 155, Seattle, WA 98101, at (206) 553-6357 or hall.kristin@epa.gov.

SUPPLEMENTARY INFORMATION:

I. Background

The SIP is a living document that a state revises as necessary to address its unique air pollution problems. Therefore, from time to time, the EPA must take action on SIP revisions containing new and/or revised regulations, approving and incorporating them by reference into the SIP. On May 22, 1997, the EPA revised the procedures for incorporating by reference federally approved SIP provisions, as a result of consultations between the EPA and the Office of the Federal Register (OFR) (62 FR 27968). The description of the revised SIP document, IBR procedures and “Identification of plan” format is discussed in further detail in the May 22, 1997, Federal Register document. On April 10, 2014, the EPA published a Federal Register beginning the new IBR procedure for Alaska (79 FR 19820). The EPA subsequently published an update to the IBR materials for Alaska on December 8, 2017 (82 FR 57836). Since then, the EPA has approved and incorporated by reference the following provisions of Alaska Administrative Code (18 AAC 50) into the Alaska SIP.

A. Added Regulations

• 18 AAC 50.030 State Air Quality Control Plan, except (a) (requiring compliance with prescribed control technology and regulating the implementation of contingency measures)

• 18 AAC 50.078 Additional Control Measures for a Serious Nonattainment Area, except (c) and (d) (regulating the sulfur content of fuel oil in space heaters and other equipment)

• 18 AAC 50.079 Provisions for Coal-Fired Heating Devices, except (e) (limiting the sale, installation, use and other activities related to coal-fired heating devices)

B. Revised Regulations

• 18 AAC 50.015 Air Quality Designations, Classifications, and Control Regions (designating areas within Alaska based on ambient air quality)

• 18 AAC 50.025 Visibility and Other Special Protection Areas (establishing visibility, woodsmoke and sulfur dioxide special protection areas within Alaska)

• 18 AAC 50.035 Documents, Procedures and Methods Adopted by Reference, except (a)(6), (a)(9), (b)(4) (adopting certain air quality monitoring, measurement, and testing guidelines and standards)

• 18 AAC 50.040 Federal Standards Adopted by Reference, except (a), (b), (c), (d), (e), (g), (j), and (k) (adopting certain Federal major source permitting requirements)

• 18 AAC 50.055 Industrial Processes and Fuel-Burning Equipment, except (d)(2)(B) (establishing emission standards for industrial processes and fuel burning)

• 18 AAC 50.075 Solid Fuel-Fired Visible Emission Standards, except (d)(2) and (f) (setting visible emission standards for certain types of heating devices)

• 18 AAC 50.076 Solid Fuel-Fired Heating Device Fuel Requirements; Requirements for Wood Sellers, except (g)(11) (establishing operating requirements for heating devices, fuel burned in such devices, and certification for commercial wood sellers)

• 18 AAC 50.077 Standards for Wood-Fired Heating Devices, except (g) (regulating the types of heating devices allowed to be installed and used in certain areas of the State)

• 18 AAC 50.215 Ambient Air Quality Analysis Methods, except (a)(4) (establishing requirements for the analysis of ambient air quality monitoring and modeling data)

• 18 AAC 50.220 Enforceable Test Methods, except (c)(1)(A), (B), (C), and (c)(2) (establishing requirements for conducting air pollution emissions tests)

• 18 AAC 50.230 Pre-Approved Emission Limits, except (d) (establishing pre-approved nitrogen oxide emission limits for certain diesel engines)

• 18 AAC 50.250 Procedures and Criteria for Revising Air Quality Classifications (governing how geographic area classifications may be revised)

• 18 AAC 50.260 Guidelines for Best Available Retrofit Technology Under the Regional Haze Rule (setting rules for control of visibility-impairing pollutants from certain stationary sources)

• 18 AAC 50.311 Nonattainment Area Major Stationary Source Permits (establishing requirements for major stationary sources in nonattainment areas)

• 18 AAC 50.345 Construction, Minor and Operating Permits: Standard Permit Conditions, except (b), (c)(3), and (l) (governing the use of standard permit conditions in construction, minor, and operating permits)

• 18 AAC 50.502 Minor Permits for Air Quality Protection (governing the permitting of minor stationary sources of air pollution)

• 18 AAC 50.540 Minor Permit: Application (setting the application requirements for minor sources)

• 18 AAC 50.542 Minor Permit: Review and Issuance (establishing procedures for reviewing and issuing permit to minor sources)

• 18 AAC 50.560 General Minor Permits (establishing general permit categories and requirements for certain minor sources)

• 18 AAC 50.990 Definitions (codifying the definitions used throughout the air quality control regulations)

C. Removed Regulations

• 18 AAC 50.240 Excess Emissions (regulating state enforcement and penalties for emissions in excess of established limits)

• Ordinance of the City and Borough of Juneau, No. 91-52 (regulating smoke from wood burning in the Mendenhall Valley)

II. EPA Action

In this action, the EPA is announcing the update to the Alaska materials approved and incorporated by reference into the Alaska SIP at 40 CFR 52.70 as of February 10, 2022. The EPA is also correcting typographical errors and rearranging and republishing the contents of 40 CFR 52.70. Specifically, in subsection 52.70(c), we are correcting errors in the entries for 18 AAC 50.077 Standards for Wood-Fired Heating Devices (regulating the types of heating devices allowed to be installed and used in certain areas) and 18 AAC 50.230 Preapproved Emission Limits (establishing pre-approved nitrogen oxide emission limits for certain diesel engines) to accurately reflect the portions of these rule sections that were not submitted by the State and were not approved into the SIP (87 FR 7722, February 10, 2022). We are also correcting section 52.70(c) by removing the entry for the Ordinance of the City and Borough of Juneau, No. 91-52 (regulating smoke from wood burning in the Mendenhall Valley) which was superseded by our approval of the Ordinance of the City and Borough of Juneau, Serial No. 2008-28 (regulating solid fuel fired burning devices in the Mendenhall Valley) (May 9, 2013, 78 FR 27071). The EPA is also rearranging and republishing the contents of sections 52.70(c) and (e) to align the contents with the outline of the Alaska state plan volumes and sections.

The EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Incorporation by Reference

In this rule, the EPA is finalizing regulatory text that includes incorporation by reference. In accordance with requirements of 1 CFR 51.5, the EPA is updating its compilation of state and local regulations included in the Alaska SIP by finalizing the incorporation by reference of previously EPA-approved regulations promulgated by Alaska and federally effective prior to February 10, 2022. These include new and revised provisions as listed in sections I.A. and I.B. of this preamble. The EPA is also removing certain provisions from the SIP as listed in section I.C. of this preamble. Lastly, the EPA is also correcting typographical errors and rearranging and republishing the contents of 52.70(c). The EPA has made, and will continue to make, these materials generally available through www.regulations.gov and at the EPA Region 10 Office (please contact the person identified in the FOR FURTHER INFORMATION CONTACT section of this preamble for more information).

IV. Statutory and Executive Order Reviews

Under the Clean Air Act (CAA), the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because this action does not involve technical standards; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications as specified by Executive Order 13175 (65 FR 67249, November 9, 2000), nor will it impose substantial direct costs on tribal governments or preempt tribal law.

In this rule, the EPA is finalizing regulatory text that includes incorporation by reference. In accordance with requirements of 1 CFR 51.5, the EPA is finalizing the incorporation by reference of the Alaska regulations described in sections I and II of this preamble. The EPA has made, and will continue to make, these documents generally available electronically through www.regulations.gov and/or in hard copy at the appropriate EPA office (see the ADDRESSES section of this preamble for more information).

This action is subject to the Congressional Review Act, and the EPA will submit a rule report to each House of the Congress and to the Comptroller General of the United States. This action is not a “major rule” as defined by 5 U.S.C. 804(2).

The EPA has also determined that the provisions of section 307(b)(1) of the CAA pertaining to petitions for judicial review are not applicable to this action. Prior EPA rulemaking actions for each individual component of the Alaska SIP compilations had previously afforded interested parties the opportunity to file a petition for judicial review in the United States Court of Appeals for the appropriate circuit within 60 days of such rulemaking action. Thus, the EPA sees no need in this action to reopen the 60-day period for filing such petitions for judicial review for this “Identification of plan” update action for Alaska.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: November 29, 2022.
Casey Sixkiller,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart C—Alaska

2. Section 52.70 is amended by revising paragraphs (b), (c), and (e) to read as follows:

§ 52.70 Identification of plan.

* * * * *

(b) Incorporation by reference. (1) Material listed in paragraph (c) of this section with an EPA approval date prior to February 10, 2022, was approved for incorporation by reference by the Director of the Federal Register in accordance with 5 U.S.C. 552(a) and 1 CFR part 51. Material is incorporated as it exists on the date of the approval, and notice of any change in the material will be published in the Federal Register. Entries in paragraph (c) of this section with EPA approval dates after February 10, 2022, will be incorporated by reference in the next update to the SIP compilation.

(2) The EPA Region 10 certifies that the rules and regulations provided by the EPA in the SIP compilation at the addresses in paragraph (b)(3) of this section are an exact duplicate of the officially promulgated State rules/regulations which have been approved as part of the State Implementation Plan as of February 10, 2022.

(3) Copies of the materials incorporated by reference may be inspected at the EPA Region 10 Office at 1200 Sixth Avenue, Seattle WA, 98101; or the National Archives and Records Administration (NARA). For information on the availability of this material at NARA, email fr.inspection@nara.gov, or go to: www.archives.gov/federal-register/cfr/ibr-locations.html.

(c) EPA approved regulations.

Table 1 to paragraph (c)—EPA-Approved Alaska Regulations
State citation | Title/subject | State effective date | EPA approval date | Explanations
Alaska Administrative Code Title 18—Environmental Conservation, Chapter 50—Air Quality Control (18 AAC 50)
18 AAC 50—Article 1. Ambient Air Quality Management
18 AAC 50.005 | Purpose and Applicability of Chapter | 10/1/2004 | 8/14/2007, 72 FR 45378
18 AAC 50.007 | Local Government Powers or Obligations Under a Local Air Quality Control Program | 2/28/2015 | 9/8/2017, 82 FR 42457
18 AAC 50.010 | Ambient Air Quality Standards | 8/20/2016 | 8/28/2017, 82 FR 40712 | Except (8).
18 AAC 50.015 | Air Quality Designations, Classifications, and Control Regions | 11/7/2020 | 2/10/2022, 87 FR 7722
18 AAC 50.020 | Baseline Dates and Maximum Allowable Increases | 8/20/2016 | 8/28/2017, 82 FR 40712
18 AAC 50.025 | Visibility and Other Special Protection Areas | 9/15/2018 | 8/29/2019, 84 FR 45419
18 AAC 50.030 | State Air Quality Control Plan | 11/7/2020 | 2/10/2022, 87 FR 7722 | Except (a).
18 AAC 50.035 | Documents, Procedures and Methods Adopted by Reference | 11/7/2020 | 2/10/2022, 87 FR 7722 | Except (a)(6), (a)(9), and (b)(4).
18 AAC 50.040 | Federal Standards Adopted by Reference | 11/7/2020 | 2/10/2022, 87 FR 7722 | Except (a), (b), (c), (d), (e), (g), (j) and (k).
18 AAC 50.045 | Prohibitions | 10/1/2004 | 8/14/2007, 72 FR 45378
18 AAC 50.050 | Incinerator Emission Standards | 7/25/2008 | 9/19/2014, 79 FR 56268
18 AAC 50.055 | Industrial Processes and Fuel-Burning Equipment | 9/15/2018 | 8/29/2019, 84 FR 45419 | Except (d)(2)(B).
18 AAC 50.065 | Open Burning | 3/2/2016 | 9/8/2017, 82 FR 42457
18 AAC 50.070 | Marine Vessel Visible Emission Standards | 6/21/1998 | 8/14/2007, 72 FR 45378
18 AAC 50.075 | Solid Fuel-Fired Heating Device Visible Emission Standards | 1/8/2020 | 9/24/2021, 86 FR 52997 | Except (d)(2) and (f).
18 AAC 50.076 | Solid Fuel-Fired Heating Device Fuel Requirements; Requirements for Wood Sellers | 1/8/2020 | 9/24/2021, 86 FR 52997 | Except (g)(11).
18 AAC 50.077 | Standards for Wood-Fired Heating Devices | 11/7/2020 | 2/10/2022, 87 FR 7722 | Except (g).
18 AAC 50.078 | Additional Control Measures for a Serious PM-2.5 Nonattainment Area | 1/8/2020 | 9/24/2021, 86 FR 52997 | Except (c) and (d).
18 AAC 50.079 | Provisions for Coal-Fired Heating Devices | 1/8/2020 | 9/24/2021, 86 FR 52997 | Except (e).
18 AAC 50.080 | Ice Fog Standards | 1/18/1997 | 8/14/2007, 72 FR 45378
18 AAC 50.100 | Nonroad Engines | 10/1/2004 | 8/14/2007, 72 FR 45378
18 AAC 50.110 | Air Pollution Prohibited | 5/26/1972 | 5/31/1972, 37 FR 10842
18 AAC 50—Article 2. Program Administration
18 AAC 50.200 | Information Requests | 10/1/2004 | 8/14/2007, 72 FR 45378
18 AAC 50.201 | Ambient Air Quality Investigation | 10/1/2004 | 8/14/2007, 72 FR 45378
18 AAC 50.205 | Certification | 11/7/2020 | 2/10/2022, 87 FR 7722
18 AAC 50.215 | Ambient Air Quality Analysis Methods | 9/15/2018 | 8/29/2019, 84 FR 45419 | Except (a)(4).
18 AAC 50.220 | Enforceable Test Methods | 9/15/2018 | 8/29/2019, 84 FR 45419 | Except (c)(1)(A), (B), (C), and (c)(2).
18 AAC 50.225 | Owner-Requested Limits | 9/15/2018 | 8/29/2019, 84 FR 45419
18 AAC 50.230 | Preapproved Emission Limits | 11/7/2020 | 2/10/2022, 87 FR 7722 | Except (d).
18 AAC 50.245 | Air Quality Episodes and Advisories for Air Pollutants Other than PM-2.5 | 2/28/2015 | 9/8/2017, 82 FR 42457
18 AAC 50.246 | Air Quality Episodes and Advisories for PM-2.5 | 2/28/2015 | 9/8/2017, 82 FR 42457
18 AAC 50.250 | Procedures and Criteria for Revising Air Quality Classifications | 11/7/2020 | 2/10/2022, 87 FR 7722
18 AAC 50.260 | Guidelines for Best Available Retrofit Technology under the Regional Haze Rule | 9/15/2018 | 8/29/2019, 84 FR 45419
18 AAC 50—Article 3. Major Stationary Source Permits
18 AAC 50.301 | Permit Continuity | 10/1/2004 | 8/14/2007, 72 FR 45378
18 AAC 50.302 | Construction Permits | 9/14/2012 | 9/19/2014, 79 FR 56268 | Except (a)(3).
18 AAC 50.306 | Prevention of Significant Deterioration (PSD) Permits | 1/4/2013 | 9/19/2014, 79 FR 56268
18 AAC 50.311 | Nonattainment Area Major Stationary Source Permits | 11/7/2020 | 2/10/2022, 87 FR 7722
18 AAC 50.345 | Construction, Minor and Operating Permits: Standard Permit Conditions | 9/15/2018 | 8/29/2019, 84 FR 45419 | Except (b), (c)(3), and (l).
18 AAC 50—Article 4. User Fees
18 AAC 50.400 | Permit Administration Fees | 9/26/2015 | 11/25/2016, 81 FR 85160 | Except (a), (b), (c), and (i).
18 AAC 50—Article 5. Minor Permits
18 AAC 50.502 | Minor Permits for Air Quality Protection | 11/7/2020 | 2/10/2022, 87 FR 7722
18 AAC 50.508 | Minor Permits Requested by the Owner or Operator | 12/9/2010 | 9/19/2014, 79 FR 56268
18 AAC 50.510 | Minor Permit—Title V Permit Interface | 12/9/2010 | 9/19/2014, 79 FR 56268
18 AAC 50.540 | Minor Permit: Application | 11/7/2020 | 2/10/2022, 87 FR 7722
18 AAC 50.542 | Minor Permit: Review and Issuance | 11/7/2020 | 2/10/2022, 87 FR 7722
18 AAC 50.544 | Minor Permits: Content | 12/9/2010 | 9/19/2014, 79 FR 56268
18 AAC 50.546 | Minor Permits: Revisions | 7/15/2008 | 9/19/2014, 79 FR 56268 | Except (b).
18 AAC 50.560 | General Minor Permits | 9/15/2018 | 8/29/2019, 84 FR 45419
18 AAC 50—Article 7. Transportation Conformity
18 AAC 50.700 | Purpose | 4/17/2015 | 9/8/2015; 80 FR 53735
18 AAC 50.705 | Applicability | 4/17/2015 | 9/8/2015; 80 FR 53735
18 AAC 50.712 | Agency Responsibilities | 4/17/2015 | 9/8/2015; 80 FR 53735
18 AAC 50.715 | Interagency Consultation Procedures | 3/2/2016 | 8/28/2017, 82 FR 40712
18 AAC 50.720 | Public Involvement | 3/2/2016 | 8/28/2017, 82 FR 40712
18 AAC 50.740 | Written Comments | 4/17/2015 | 9/8/2015, 80 FR 53735
18 AAC 50.745 | Resolving Conflicts | 4/17/2015 | 9/8/2015, 80 FR 53735
18 AAC 50.750 | Exempt Projects | 4/17/2015 | 9/8/2015, 80 FR 53735
18 AAC 50—Article 9. General Provisions
18 AAC 50.900 | Small Business Assistance Program | 10/1/2004 | 8/14/2007, 72 FR 45378
18 AAC 50.990 | Definitions | 11/7/2020 | 2/10/2022, 87 FR 7722
Alaska Administrative Code Title 18—Environmental Conservation, Chapter 52—Emissions Inspection and Maintenance Requirements (18 AAC 52)
18 AAC 52—Article 1. Emissions Inspection and Maintenance Requirements
18 AAC 52.005 | Applicability and General Requirements | 5/17/2008 | 3/22/2010, 75 FR 13436
18 AAC 52.007 | Suspension and Reestablishment of I/M Requirements | 5/17/2008 | 3/22/2010, 75 FR 13436
18 AAC 52.010 | I/M Program Administration Office | 2/18/2006 | 3/22/2010, 75 FR 13436
18 AAC 52.015 | Motor Vehicle Maintenance Requirements | 2/18/2006 | 3/22/2010, 75 FR 13436
18 AAC 52.020 | Certificate of Inspection Requirements | 2/18/2006 | 3/22/2010, 75 FR 13436
18 AAC 52.025 | Visual Identification of Certificate of Inspection, Waivers, and Exempt Vehicles | 2/18/2006 | 3/22/2010, 75 FR 13436
18 AAC 52.030 | Department-Administered I/M Program | 2/1/1994 | 4/5/1995, 60 FR 17232
18 AAC 52.035 | I/M Program Administered by an Implementing Agency | 3/27/2002 | 3/22/2010, 75 FR 13436
18 AAC 52.037 | Reporting Requirements for an I/M Program Administered by an Implementing Agency | 2/18/2006 | 3/22/2010, 75 FR 13436
18 AAC 52.040 | Centralized Inspection Program | 2/1/1994 | 4/5/1995, 60 FR 17232
18 AAC 52.045 | Decentralized Inspection Program | 2/1/1994 | 4/5/1995, 60 FR 17232
18 AAC 52.050 | Emissions Standards | 3/27/2002 | 3/22/2010, 75 FR 13436
18 AAC 52.055 | Alternative Requirements, Standards and Test Procedures | 1/1/2000 | 1/8/2002, 67 FR 822
18 AAC 52.060 | Waivers | 5/17/2008 | 3/22/2010, 75 FR 13436
18 AAC 52.065 | Emissions-Related Repair Cost Minimum | 1/1/2000 | 1/8/2002, 67 FR 822
18 AAC 52.070 | Referee Facility | 3/27/2002 | 3/22/2010, 75 FR 13436
18 AAC 52.075 | Kit Cars and Custom-Manufactured Vehicles | 2/1/1994 | 4/5/1995, 60 FR 17232
18 AAC 52.080 | Grey Market Vehicles | 3/27/2002 | 3/22/2010, 75 FR 13436
18 AAC 52.085 | Vehicle Modifications | 2/18/2006 | 3/22/2010, 75 FR 13436
18 AAC 52.090 | Repair of Nonconforming Vehicles | 1/1/1998 | 12/29/1999, 64 FR 72940
18 AAC 52.095 | Minimum Certification Requirements | 1/1/1998 | 12/29/1999, 64 FR 72940
18 AAC 52.100 | Enforcement Procedures for Violations by Motorists | 12/14/2006 | 3/22/2010, 75 FR 13436
18 AAC 52.105 | Enforcement Procedures for Violations by Certified Mechanics or Stations | 1/1/2000 | 1/8/2002, 67 FR 822
18 AAC 52—Article 4. Certification Requirements
18 AAC 52.400 | Mechanic Certification | 1/1/1998 | 12/29/1999, 64 FR 72940
18 AAC 52.405 | Certified Mechanic Examinations | 3/27/2002 | 3/22/2010, 75 FR 13436
18 AAC 52.410 | Training Course Certification | 2/18/2006 | 3/22/2010, 75 FR 13436
18 AAC 52.415 | I/M Station Certification | 1/1/2000 | 1/8/2002, 67 FR 822
18 AAC 52.420 | Equipment Certification | 1/1/2000 | 1/8/2002, 67 FR 822
18 AAC 52.425 | Renewal of Certification | 1/1/1998 | 12/29/1999, 64 FR 72940
18 AAC 52.430 | Duty to Report Change in Status | 2/1/1994 | 4/5/1995, 60 FR 17232
18 AAC 52.440 | Monitoring of Certified Mechanics and Stations | 1/1/2000 | 1/8/2002, 67 FR 822
18 AAC 52.445 | Suspension or Revocation of Certification | 2/1/1994 | 4/5/1995, 60 FR 17232
18 AAC 52—Article 5. Certified Station Requirements
18 AAC 52.500 | General Operating Requirements | 1/1/2000 | 1/8/2002, 67 FR 822
18 AAC 52.505 | Display of Certified Station Sign | 2/1/1994 | 4/5/1995, 60 FR 17232
18 AAC 52.510 | Display of Certificates | 2/18/2006 | 3/22/2010, 75 FR 13436
18 AAC 52.515 | Inspection Charges | 2/18/2006 | 3/22/2010, 75 FR 13436
18 AAC 52.520 | Required Tools and Equipment | 2/18/2006 | 3/22/2010, 75 FR 13436
18 AAC 52.525 | Remote Station Operation | 1/1/2000 | 1/8/2002, 67 FR 822
18 AAC 52.527 | Prescreening Prohibited | 1/1/2000 | 1/8/2002, 67 FR 822
18 AAC 52.530 | Preliminary Inspection | 1/1/2000 | 1/8/2002, 67 FR 822
18 AAC 52.535 | Test Abort Conditions | 3/27/2002 | 3/22/2010, 75 FR 13436
18 AAC 52.540 | Official I/M Testing | 3/27/2002 | 3/22/2010, 75 FR 13436
18 AAC 52.545 | Parts on Order | 1/1/1998 | 12/29/1999, 64 FR 72940
18 AAC 52.546 | Unavailable Parts | 1/1/1998 | 12/29/1999, 64 FR 72940
18 AAC 52.550 | Recordkeeping Requirements | 2/1/1994 | 4/5/1995, 60 FR 17232
18 AAC 52—Article 9. General Provisions
18 AAC 52.990 | Definitions | 2/18/2006 | 3/22/2010, 75 FR 13436
Alaska Administrative Code Title 18—Environmental Conservation, Chapter 53—Fuel Requirements for Motor Vehicles (18 AAC 53)
18 AAC 53—Article 1. Oxygenated Gasoline Requirements
18 AAC 53.005 | Purpose and Applicability; General Requirements | 10/31/1997 | 12/29/1999, 64 FR 72940
18 AAC 53.007 | Dispenser Labeling | 10/31/1997 | 12/29/1999, 64 FR 72940
18 AAC 53.010 | Control Periods and Control Areas | 2/20/2004 | 6/23/2004, 69 FR 34935
18 AAC 53.020 | Required Oxygen Content | 10/31/1997 | 12/29/1999, 64 FR 72940
18 AAC 53.030 | Sampling, Testing and Oxygen Content Calculations | 10/31/1997 | 12/29/1999, 64 FR 72940
18 AAC 53.035 | Per Gallon Method of Compliance | 10/31/1997 | 12/29/1999, 64 FR 72940
18 AAC 53.040 | Averaging Oxygen Content Method of Compliance | 10/31/1997 | 12/29/1999, 64 FR 72940
18 AAC 53.045 | Oxygen Credits and Debits | 10/31/1997 | 12/29/1999, 64 FR 72940
18 AAC 53.060 | Oxygenated Gasoline Blending | 10/31/1997 | 12/29/1999, 64 FR 72940
18 AAC 53.070 | Registration and Permit | 10/31/1997 | 12/29/1999, 64 FR 72940
18 AAC 53.080 | Car Fees | 12/30/2000 | 1/08/2002, 67 FR 822
18 AAC 53.090 | Recordkeeping | 10/31/1997 | 12/29/1999, 64 FR 72940
18 AAC 53.100 | Reporting | 10/31/1997 | 12/29/1999, 64 FR 72940
18 AAC 53.105 | Product Transfer Document | 10/31/1997 | 12/29/1999, 64 FR 72940
18 AAC 53.120 | Inspection and Sampling | 10/31/1997 | 12/29/1999, 64 FR 72940
18 AAC 53.130 | Liability for Violation | 10/31/1997 | 12/29/1999, 64 FR 72940
18 AAC 53.140 | Defenses for Violation | 10/31/1997 | 12/29/1999, 64 FR 72940
18 AAC 53.150 | Temporary Variances | 10/31/1997 | 12/29/1999, 64 FR 72940
18 AAC 53.160 | Quality Assurance Program | 10/31/1997 | 12/29/1999, 64 FR 72940
18 AAC 53.170 | Attest Engagements | 10/31/1997 | 12/29/1999, 64 FR 72940
18 AAC 53.190 | Suspension and Reestablishment of Control Period | 2/20/2004 | 6/23/2004, 69 FR 34935
18 AAC 53—Article 9. General Provisions
18 AAC 53.990 | Definitions | 10/31/1997 | 12/29/1999, 64 FR 72940

Table 2 to paragraph (c)—Alaska State Statutes
State citation | Title/subject | State effective date | EPA approval date | Explanations
Title 45—Trade and Commerce, Chapter 45.45. Trade Practices
Sec. 45.45.400 | Prohibited Transfer of Used Cars | 6/25/1993 | 11/18/1998, 63 FR 63983 | Except (b).
Title 46—Water, Air, Energy, and Environmental Conservation, Chapter 46.14. Air Quality Control
Sec. 46.14.550 | Responsibilities of Owner and Operator; Agent for Service | 1/4/2013 | 9/19/2014, 79 FR 56268
Sec. 46.14.560 | Unavoidable Malfunctions and Emergencies | 6/25/1993 | 11/18/1998, 63 FR 63983
Sec. 46.14.990 | Definitions | 1/4/2013 | 9/19/2014, 79 FR 56268 | Except (1) through (3), (6), (7), (9) through (14), (19) through (26), and (28).

Table 3 to paragraph (c)—City and Borough Codes and Ordinances
State citation | Title/subject | State effective date | EPA approval date | Explanations
Anchorage Municipal Code and Ordinances
Anchorage Municipal Code 21.85.030 | Improvement Requirements by Improvement Area | 1/16/1987 (city effective date) | 8/13/1993, 58 FR 43084 | Eagle River PM Plan—Contingency Plan.
Anchorage Municipal Code 21.45.080.W.7 | Paving | 9/24/1991 (city effective date) | 8/13/1993, 58 FR 43084 | Section W.7. Eagle River PM Plan—Contingency Plan.
Anchorage Ordinance 2006-13 | An ordinance amending the Anchorage Municipal Code, Chapters 15.80 and 15.85 to comply with State I/M regulations and to comply with DMV Electronic Procedures. | 2/14/2006 (city approval date) | 3/22/2010, 75 FR 13436 | Anchorage Transportation Control Program—Carbon Monoxide.
City and Borough of Juneau Ordinances
Ordinance of the City and Borough of Juneau, No. 91-53 | An Ordinance amending the wood smoke control fine schedule to increase the fines for violations of the wood smoke control code | 1/6/1992 (city adoption date) | 3/24/1994, 59 FR 13884 | Mendenhall Valley PM Plan.
Ordinance of the City and Borough of Juneau No. 93-01 | Setting boundaries for regrading and surfacing | 2/8/1993 (city adoption date) | 3/24/1994, 59 FR 13884 | Mendenhall Valley PM Plan.
Ordinance of the City and Borough of Juneau, No. 93-06 | Setting boundaries for regrading and surfacing | 4/5/1993 (city adoption date) | 3/24/1994, 59 FR 13884 | Mendenhall Valley PM Plan.
Ordinance of the City and Borough of Juneau, No. 93-39am | An Ordinance creating Local Improvement District No. 77 of the City and Borough, setting boundaries for drainage and paving of streets in the Mendenhall Valley | 11/17/1993 (city adoption date) | 3/24/1994, 59 FR 13884 | Mendenhall Valley PM Plan.
Ordinance of the City and Borough of Juneau, Serial No. 2008-28 | An Ordinance Amending the Woodsmoke Control Program Regarding Solid Fuel-Fired Burning Devices. | 9/8/2008 (city adoption date) | 5/9/2013, 78 FR 27071 | Mendenhall Valley PM Limited Maintenance Plan.
Fairbanks North Star Borough Ordinances and Code
Fairbanks North Star Borough Ordinance No. 2001-17 | Mandating a Fairbanks North Star Borough Motor Vehicle Plug-in Program | 4/12/2001 (borough adoption date) | 2/4/2002, 67 FR 5064 | Fairbanks Transportation Control Program—Carbon Monoxide.
Fairbanks North Star Borough Ordinance No. 2003-71 | An Ordinance amending the Carbon Monoxide Emergency Episode Prevention Plan including implementing a Woodstove Control Ordinance | 10/30/2003 (borough adoption date) | 7/27/2004, 69 FR 44601 | Fairbanks Carbon Monoxide Maintenance Plan.
Chapter 21.28—PM2.5 Air Quality Control Program
21.28.010 | Definitions | 3/2/2015 (borough effective date) | 9/8/2017, 82 FR 42457
21.28.020 | Borough listed appliances | 1/15/2016 (borough effective date) | 9/8/2017, 82 FR 42457
21.28.030 | Prohibited acts | 10/1/2016 (borough effective date) | 9/8/2017, 82 FR 42457 | Except H and J.
21.28.050 | Forecasting exceedances and restrictions in the air quality control zone during an alert | 6/26/2015 (borough effective date) | 9/8/2017, 82 FR 42457
21.28.060 | No other adequate source of heat determination | 8/12/2016 (borough effective date) | 9/8/2017, 82 FR 42457

* * * * *

(e) EPA approved nonregulatory provisions and quasi-regulatory measures.

Table 5 to Paragraph (e)—EPA-Approved Alaska Nonregulatory Provisions and Quasi-Regulatory Measures
Name of SIP provision | Applicable geographic or nonattainment area | State submittal date | EPA approval date | Explanations
State of Alaska Air Quality Control Plan: Volume II. Analysis of Problems, Control Actions
Section I. Background
II.I.A. Introduction | Statewide | 1/8/1997 | 12/29/1999, 64 FR 72940 |
II.I.B. Air Quality Control Regions | Statewide | 1/8/1997 | 12/29/1999, 64 FR 72940 |
II.I.C. Attainment/nonattainment Designations | Statewide | 1/8/1997 | 12/29/1999, 64 FR 72940 |
II.I.D. Prevention of Significant Deterioration Designations | Statewide | 1/8/1997 | 12/29/1999, 64 FR 72940 |
II.I.E. New Source Review | Statewide | 1/8/1997 | 12/29/1999, 64 FR 72940 |
Section II. State Air Quality Control Program
II.II. State Air Quality Control Program | Statewide | 7/9/2012 | 10/22/2012, 77 FR 64425 |
Section III. Areawide Pollutant Control Program
II.III.A. Statewide Carbon Monoxide Control Program | Statewide | 6/5/2008 | 3/22/2010, 75 FR 13436 |
II.III.B. Anchorage Transportation Control Program | Anchorage | 1/4/2002 | 9/18/2002, 67 FR 58711 |
II.III.B.11. Anchorage Carbon Monoxide Maintenance Plan | Anchorage | 9/20/2011 | 3/3/2014, 79 FR 11707 |
II.III.B.12. Anchorage Second 10-year Carbon Monoxide Limited Maintenance Plan | Anchorage | 4/22/2013 | 3/3/2014, 79 FR 11707 |
II.III.C. Fairbanks Transportation Control Program | Fairbanks | 8/30/2001 | 2/4/2002, 67 FR 5064 |
II.III.C.11. Fairbanks Carbon Monoxide Redesignation and Maintenance Plan | Fairbanks | 9/15/2009 | 3/22/2010, 75 FR 13436 |
II.III.C.12. Fairbanks Second 10-year Carbon Monoxide Limited Maintenance Plan | Fairbanks | 4/22/2013 | 8/9/2013, 78 FR 48611 |
II.III.D. Particulate Matter | Statewide | 10/15/1991 | 8/13/1993, 58 FR 43084 |
II.III.D.2. Eagle River PM10 Control Plan | Eagle River | 10/15/1991 | 8/13/1993, 58 FR 43084 |
II.III.D.2.a. Eagle River PM10 Limited Maintenance Plan | Eagle River | 9/29/2010 | 1/7/2013, 78 FR 900 |
II.III.D.2.b. Second 10-year PM10 Limited Maintenance Plan | Eagle River | 11/10/2020 | 11/9/2021, 86 FR 62096 |
II.III.D.3. Mendenhall Valley PM10 Control Plan | Mendenhall Valley | 6/22/1993 | 3/24/1994, 59 FR 13884 |
II.III.D.3.a. Mendenhall Valley PM10 Limited Maintenance Plan | Mendenhall Valley | 5/14/2009 | 5/9/2013, 78 FR 27071 |
II.III.D.3.b. Mendenhall Valley Second 10-year Limited Maintenance Plan | Mendenhall Valley | 11/10/2020 | 10/25/2021, 86 FR 58807 |
II.III.D.4. Interstate Transport of Particulate Matter | Statewide | 2/7/2008 | 10/15/2008, 73 FR 60955 |
II.III.D.5. Fairbanks North Star Borough PM2.5 Control Plan | Fairbanks North Star Borough | 11/23/2016 | 9/8/2017, 82 FR 42457 | Fairbanks North Star Borough PM2.5 Moderate Area Plan.
II.III.E. Ice Fog | Statewide | 1/18/1980 | 7/5/1983, 48 FR 30623 |
II.III.F. Open Burning | Statewide | 4/4/2011 | 2/14/2013, 78 FR 10546 |
II.III.F.1. In Situ Burning Guidelines for Alaska | Statewide | 4/4/2011 | 2/14/2013, 78 FR 10546 | Revision 1, August 2008.
II.III.G. Wood Smoke Pollution Control | Statewide | 11/15/1983 | 4/24/1984, 49 FR 17497 |
II.III.H. Lead Pollution Control | Statewide | 11/15/1983 | 1/3/1984, 49 FR 67 |
II.III.I. Transportation Conformity | Statewide | 4/17/2015 | 9/8/2015, 80 FR 53735 |
II.III.I.1. Transportation Conformity Supplement | Statewide | 7/29/2015 | 9/8/2015, 80 FR 53735 | Clarification re: access to public records: AS 40.25.110, AS 40.25.115, and 2 AAC 96.
II.III.J. General Conformity | Statewide | 12/05/1994 | 9/27/1995, 60 FR 49765 |
II.III.K. Area Wide Pollutant Control Program for Regional Haze | Statewide | 4/4/2011 | 2/14/2013, 78 FR 10546 |
Section IV. Point Source Control Program
II.IV.A. Summary | Statewide | 11/15/1983 | 4/24/1984, 49 FR 17497 |
II.IV.B. State Air Quality Regulations | Statewide | 11/15/1983 | 4/24/1984, 49 FR 17497 |
II.IV.C. Local Programs | Statewide | 11/15/1983 | 4/24/1984, 49 FR 17497 |
II.IV.D. Description of Source Categories and Pollutants | Statewide | 11/15/1983 | 4/24/1984, 49 FR 17497 |
II.IV.E. Point Source Control | Statewide | 11/15/1983 | 4/24/1984, 49 FR 17497 |
II.IV.F. Facility Review Procedures | Statewide | 9/12/1988 | 7/31/1989, 54 FR 31522 |
II.IV.G. Application Review and Permit Development | Statewide | 11/15/1983 | 4/24/1984, 49 FR 17497 |
II.IV.H. Permit Issuance Requirements | Statewide | 11/15/1983 | 4/24/1984, 49 FR 17497 |
Section V. Ambient Air Monitoring
II.V.A. Purpose | Statewide | 1/18/1980 | 4/15/1981, 46 FR 21994 |
II.V.B. Completed Air Monitoring Projects | Statewide | 1/18/1980 | 4/15/1981, 46 FR 21994 |
II.V.C. Air Monitoring Network | Statewide | 1/18/1980; 7/11/1994 | 4/15/1981, 46 FR 21994; 4/5/1995, 60 FR 17237 |
II.V.E. Annual Review | Statewide | 1/18/1980 | 4/15/1981, 46 FR 21994 |
State of Alaska Air Quality Control Plan: Volume III. Appendices
Section II. State Air Quality Control Program
III.II.A. State Air Statutes | Statewide | 12/11/2006 | 3/22/2010, 75 FR 13436 | Except 46.03.170.
III.II.A.1. State Attorney General Opinions on Legal Authority | Statewide | 12/11/2006 | 3/22/2010, 75 FR 13436 |
III.II.B. Municipality of Anchorage and ADEC Agreements | Anchorage | 4/22/2013 | 3/3/2014, 79 FR 11707 |
III.II.C. Fairbanks North Star Borough and ADEC Agreements | Fairbanks | 12/11/2006 | 3/22/2010, 75 FR 13436 |
III.II.D. CAA Section 110 Infrastructure Certification Documentation and Supporting Documents | Statewide | 10/25/2018 | 12/23/2019, 84 FR 70428 |
III.II.D.1. Attachment 1—Public Official Financial Disclosure (2 AAC 50.010 through 2 AAC 50.200) | Statewide | 7/9/2012 | 10/22/2012, 77 FR 64425 | Approved for purposes of CAA section 128.
III.II.D.2. Attachment 2—Executive Branch Code of Ethics (9 AAC 52.010 through 9 AAC 52.990) | Statewide | 7/9/2012 | 10/22/2012, 77 FR 64425 | Approved for purposes of CAA section 128.
Section III. Area Wide Pollutant Control Program
III.III.A. I/M Program Manual | Statewide | 6/5/2008 | 3/22/2010, 75 FR 13436 |
III.III.B. Municipality of Anchorage | Anchorage | 4/22/2013 | 3/3/2014, 79 FR 11707 |
III.III.C. Fairbanks | Fairbanks | 4/22/2013 | 8/9/2013, 78 FR 48611 |
III.III.D. Particulate Matter | Statewide | 10/15/1991 | 8/13/1993, 58 FR 43084 |
III.III.D.2. Eagle River PM10 Control Plan | Eagle River | 11/10/2020 | 11/9/2021, 86 FR 62096 |
III.III.D.3. Control Plan for the Mendenhall Valley of Juneau | Mendenhall Valley | 11/10/2020 | 10/25/2021, 86 FR 58807 |
III.III.D.5. Fairbanks North Star Borough PM2.5 Control Plan | Fairbanks North Star Borough | 11/23/2016 | 9/8/2017, 82 FR 42457 | Only with respect to the Fairbanks North Star Borough PM2.5 Moderate Area Plan.
III.III.G. Ordinance of the City and Borough of Juneau | Juneau | 11/15/1983 | 4/24/1984, 49 FR 17497 |
III.III.H. Support Documents for Lead Plan | Statewide | 11/15/1983 | 1/3/1984, 49 FR 67 |
III.III.K. Area wide Pollutant Control Program for Regional Haze | Statewide | 4/4/2011 | 2/14/2013, 78 FR 10546 |
Section IV. Point Source Control Program
III.IV. Point Source Control Program | Statewide | 11/15/1983 | 4/24/1984, 49 FR 17497 |
III.IV.1. PSD Area Classification and Reclassification | Statewide | 11/15/1983 | 4/24/1984, 49 FR 17497 |
III.IV.2. Compliance Assurance | Statewide | 11/15/1983 | 4/24/1984, 49 FR 17497 |
III.IV.3. Testing Procedures | Statewide | 11/15/1983 | 4/24/1984, 49 FR 17497 |
Section V. Ambient Air Monitoring
III.V. Ambient Air Monitoring | Statewide | 11/15/1983 | 4/24/1984, 49 FR 17497 |
Section VI. Small Business Assistance Program
III.VI. Small Business Assistance Program | Statewide | 4/18/1994 | 9/5/1995, 60 FR 46021 |
Infrastructure and Interstate Transport
Interstate Transport Requirements—1997 Ozone and 1997 PM2.5 NAAQS | Statewide | 2/7/2008 | 10/15/2008, 73 FR 60955 | Approved SIP for purposes of CAA section 110(a)(2)(D)(i) for the 1997 Ozone and 1997 PM2.5 NAAQS.
Infrastructure Requirements—1997 Ozone NAAQS | Statewide | 7/9/2012 | 10/22/2012, 77 FR 64425 | Approved SIP for purposes of CAA sections 110(a)(2)(A), (B), (C), (D)(ii), (E), (F), (G), (H), (J), (K), (L), and (M) for the 1997 Ozone NAAQS.
Interstate Transport Requirements—2008 Ozone and 2006 PM2.5 NAAQS | Statewide | 3/29/2011 | 8/4/2014, 79 FR 45103 | Approved SIP for purposes of CAA section 110(a)(2)(D)(i)(I) for the 2008 Ozone and 2006 PM2.5 NAAQS.
Interstate Transport Requirements—2008 Lead NAAQS | Statewide | 7/9/2012 | 8/4/2014, 79 FR 45103 | Approved SIP for purposes of CAA section 110(a)(2)(D)(i)(I) for the 2008 Lead NAAQS.
Infrastructure Requirements—1997 PM2.5 NAAQS | Statewide | 7/9/2012 | 11/10/2014, 79 FR 66651 | Approved SIP for purposes of CAA section 110(a)(2)(A), (B), (C), (D)(ii), (E), (F), (H), (J), (K), (L), and (M) for the 1997 PM2.5 NAAQS.
Infrastructure Requirements—2006 PM2.5 NAAQS | Statewide | 7/9/2012, 3/29/2011 | 11/10/2014, 79 FR 66651 | Approved SIP for purposes of CAA section 110(a)(2)(A), (B), (C), (D)(i)(II), (D)(ii), (E), (F), (H), (J), (K), (L), and (M) for the 2006 PM2.5 NAAQS.
Infrastructure Requirements—2008 Ozone NAAQS | Statewide | 7/9/2012, 3/29/2011 | 11/10/2014, 79 FR 66651 | Approved SIP for purposes of CAA section 110(a)(2)(A), (B), (C), (D)(i)(II), (D)(ii), (E), (F), (G), (H), (J), (K), (L), and (M) for the 2008 Ozone NAAQS.
Infrastructure Requirements—2010 NO2 NAAQS | Statewide | 5/12/2015 | 5/12/2017, 82 FR 22081 | Approved SIP for purposes of CAA section 110(a)(2)(A), (B), (C), (D)(i)(II), (D)(ii), (E), (F), (G), (H), (J), (K), (L), and (M) for the 2010 NO2 NAAQS.
Infrastructure Requirements—2010 SO2 NAAQS | Statewide | 5/12/2015 | 5/12/2017, 82 FR 22081 | Approved SIP for purposes of CAA section 110(a)(2)(A), (B), (C), (D)(i)(II), (D)(ii), (E), (F), (G), (H), (J), (K), (L), and (M) for the 2010 SO2 NAAQS.
Interstate Transport Requirements—2015 Ozone NAAQS | Statewide | 10/25/2018 | 12/18/2019, 84 FR 69331 | Approved SIP for purposes of CAA section 110(a)(2)(D)(i)(I) for the 2015 Ozone NAAQS.
Infrastructure Requirements—2015 Ozone NAAQS | Statewide | 10/25/2018 | 12/23/2019, 84 FR 70428 | Approved SIP for purposes of CAA section 110(a)(2)(A), (B), (C), (D)(i)(II), (D)(ii), (E), (F), (G), (H), (J), (K), (L), and (M) for the 2015 Ozone NAAQS.
Regulations Approved but Not Incorporated by Reference
18 AAC 50.076(g)(11) Solid Fuel-fired Heating Device Fuel Requirements; Registration of Commercial Wood Sellers | Statewide | 11/26/2016 | 9/8/2017, 82 FR 42457 |
21.28.030.J Prohibited Acts. Penalties | Fairbanks North Star Borough | 10/1/2016 (borough effective date) | 9/8/2017, 82 FR 42457 | FNSB Code Chapter 21.28 PM2.5 Air Quality Control Program.
21.28.040 Enhanced voluntary removal, replacement and repair program | Fairbanks North Star Borough | 1/15/2016 (borough effective date) | 9/8/2017, 82 FR 42457 | FNSB Code Chapter 21.28 PM2.5 Air Quality Control Program.
21.28.070 Voluntary burn cessation program | Fairbanks North Star Borough | 4/24/2015 (borough effective date) | 9/8/2017, 82 FR 42457 | FNSB Code Chapter 21.28 PM2.5 Air Quality Control Program.
Recently Approved Plans
II.III.D.5.11 Fairbanks Emergency Episode Plan | Fairbanks North Star Borough | 11/28/2018 | 6/5/2019, 84 FR 26019 | Revision to II.III.D.5.
III.III.D.5.12 Appendix to Volume II. Section III.D.5 | Fairbanks North Star Borough | 11/28/2018 | 6/5/2019, 84 FR 26019 | Revision to pages 68 through 84 of III.III.D.5.
II.III.D.7.06 Fairbanks Emissions Inventory Data | Fairbanks North Star Borough | 12/13/2019 | 9/24/2021, 86 FR 52997 | Approved for purposes of the Fairbanks Serious Plan 2013 base year emissions inventory.
III.III.D.7.06 Appendix to Fairbanks Emissions Inventory Data | Fairbanks North Star Borough | 12/13/2019 | 9/24/2021, 86 FR 52997 | Approved for purposes of the Fairbanks Serious Plan 2013 base year emissions inventory.
II.III.D.7.08 Fairbanks Modeling | Fairbanks North Star Borough | 12/13/2019 | 9/24/2021, 86 FR 52997 | Approved for purposes of the Fairbanks Serious Plan PM2.5 precursor demonstration for NOX and VOC emissions as it relates to BACM/BACT control measure requirements.
II.III.D.7.12 Fairbanks Emergency Episode Plan | Fairbanks North Star Borough | 12/15/2020 | 9/24/2021, 86 FR 52997 |

[FR Doc. 2022-26344 Filed 12-9-22; 8:45 am]

BILLING CODE 6560-50-P